DEPARTMENT OF THE INTERIOR

National Park Service

60-Day Notice of Intent To Request Clearance of Information Collection, Issuance of a Commercial Use Authorization, Opportunity for Public Comment

AGENCY: National Park Service, Interior.

ACTION: Notice.

SUMMARY: In accordance with the Paperwork Reduction Act of 1995 (Public Law 104-13, 44 U.S.C. 3507) the National Park Service (NPS) invites public comment on a request for the information collection requirements of NPS Commercial Use Authorization Form. The Authorization is a result of Section 418 of the National Park Omnibus Act of 1998 that gave the NPS legislative authority to issue Commercial Use Authorizations to persons to provide commercial services to visitors. This is a new information collection.

DATES: Public comments will be accepted until June 10, 2002.

ADDRESSES: Send comments to Cynthia Orlando, National Park Service, 1849 C Street NW., Room 7311, Washington, DC 20240. Fax: (202) 565-1224. All responses to this notice will be summarized and included in the request for Office of Management and Budget (OMB) approval.

FOR FURTHER INFORMATION CONTACT: Cynthia Orlando at (202) 208-1214 or fax to (202) 565-1224.

SUPPLEMENTARY INFORMATION: Section 418 of the National Parks Omnibus Management Act of 1998, Public Law 105-591, authorizes the NPS to issue commercial use authorizations to persons to provide commercial services to visitors of areas of the National Park System. There are two types of commercial use authorizations, incidental activity commercial use authorizations and in-park commercial use authorizations. When proposed regulations are finalized it will assure that all NPS commercial use authorizations are issued or solicited and awarded consistently and that the private sector will be aware of NPS authorizing procedures. The information gathered in conjunction with a commercial use authorization is to be used by NPS officials to determine whether to approve and issue a commercial use authorization for specified commercial services in accordance with this part and whether the applicant is qualified to provide the services. Without such information, the NPS would be unable to objectively evaluate requests for issuance of a commercial use authorization.

Estimated annual number of respondents: 3,500.

Estimated annual number of responses: 3,500.

Estimated average burden hours per response: 2 hours.

Estimated frequency of response: The collection information must be provided each time a member of the public wants to apply for a commercial use authorization to provide commercial services in the NPS. Frequency of response will depend on number of applications to a park annually.

Estimated annual reporting burden: 7,000 hours per year.

The NPS specifically invites public comments as to:

a. Whether the collection of information is necessary for the proper performance of the functions of the Service, including whether the information will have practical utility;

b. The accuracy of the Service's estimate of the burden of the collection of information, including the validity of the methodology and assumptions used;

c. The quality, utility, and clarity of the information to be collected; and

d. How to minimize the burden of the collection of information on those who are to respond, including the use of appropriate automated, electronic, mechanical, or other forms of information technology.

Richard Cripe,
Acting Information Collection Clearance Officer, National Park Service.

[FR Doc. 02-8578 Filed 4-9-02; 8:45 am]

BILLING CODE 4310-70-P